DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Harrison County Coal Resources, Inc.

DATES: All comments on the petition must be received by MSHA's Office of Standards, Regulations, and Variances on or before January 29, 2025.

ADDRESSES: You may submit comments identified by Docket No. MSHA-2024-0118 by any of the following methods:

1. Federal eRulemaking Portal: https://www.regulations.gov. Follow the instructions for submitting comments for MSHA-2024-0118.

2. Fax: 202-693-9441.

3. Email: petitioncomments@dol.gov.

4. Regular Mail or Hand Delivery: MSHA, Office of Standards, Regulations, and Variances, 201 12th Street South, 4th Floor West, Arlington, Virginia 22202-5452.

Attention: S. Aromie Noe, Director, Office of Standards, Regulations, and Variances. Persons delivering documents are required to check in at 4th Floor West. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2024-072-C.

Petitioner: Harrison County Coal Resources, Inc., 464 North Portal Rd., Wallace, WV 26448.

Mine: Harrison County Mine, MSHA ID No. 46-01318, located in Marion County, West Virginia.

Regulation Affected: 30 CFR 75.503, Permissible electric face equipment; maintenance; Specified in 30 CFR 18.35(a)(5)(i), Portable (trailing) cables and cords.

Modification Request: The petitioner requests a modification of 30 CFR 75.503 to increase the maximum length of tailing cables specified in 30 CFR 18.35(a)(5)(i) that supply power to loading machines to 1,000 feet.

The petitioner states that:

(a) The Harrison County Mine is developing longwall panels as part of a continuing mining cycle. The longwall development panels consist of a three-entry system with 300-foot deep cuts to improve roof and abutment pressure control during longwall mining. Ventilation is also improved by limiting the number of stoppings, which have a built-in ventilation pressure loss factor. The Harrison County Mine is also developing main and submain sections as part of the continuing mining cycle. The petitioner has provided typical section prints showing the need for cable lengths greater than 700 feet for this development system.

(b) The petitioner has also provided a summary of short-circuit calculations justifying the instantaneous trip setting for the circuit breakers protecting the trailing cables supplying power to 995 Volt loading machines in Harrison County Mine.

(c) The proposed alternative method will at all times guarantee no less than the same measure of protection to all miners as would be provided by the mandatory standard.

The petitioner proposes the following alternative method:

(a) The proposed decision and order (PDO) granted by MSHA shall apply only to trailing cables supplying three-phase, 995-volt power to loading machines.

(b) The maximum lengths of the trailing cables shall be 1,000 feet.

(c) All trailing cables exceeding 700 feet in length and supplying three-phase, 995-volt power to loading machines shall be No. 2 American wire gauge (AWG), or larger.

(d) All circuit breakers used to protect the No. 2 AWG trailing cables exceeding 700 feet in length shall have instantaneous trip units calibrated to trip at 800 amperes (amps). The trip setting of these circuit breakers shall be sealed or locked, and these circuit breakers shall have permanent, legible labels. The calibration, sealing and labeling shall be performed by the manufacturer or at a repair facility outfitted with calibrated test equipment. The labels shall be maintained in legible condition.

(e) Replacement circuit breakers and/or instantaneous trip units used to protect the No. 2 AWG trailing cables shall be calibrated to trip at 800 amperes, and this setting shall be sealed or locked. The calibration, sealing, and labeling shall be performed by the manufacturer or a repair facility outfitted with calibrated test equipment.

(f) During each production day, persons designated by the operator shall visually examine the trailing cables to ensure that the cables are in safe operating condition and that the instantaneous settings of the specially calibrated breakers do not have seals or locks removed and that they do not exceed the stipulated settings specified in items (d) and (e).

(g) Any trailing cable that is not in safe operating condition shall be removed from service immediately and repaired or replaced.

(h) Each splice or repair in the trailing cable shall be made in a workmanlike manner and in accordance with the instructions of the manufacturer of the splice or repair materials. The outer jacket of each splice or repair shall be vulcanized with flame-resistant material or made with material that has been accepted by MSHA as flame resistant.

(i) In the event the mining method or operating procedures cause or contribute to the damage of any trailing cable, the cable shall be removed from service immediately and repaired or replaced. Also, additional precautions shall be taken to ensure that, in the future, the cable is protected and maintained in safe operating condition.

(j) Permanent warning labels shall be installed and maintained on the cover(s) of the power center identifying the location of each sealed or locked short-circuit protective device. The label shall identify the circuit breakers as being suitable for protecting No. 2 AWG cables and shall warn miners not to change or alter these short-circuit settings.

(k) The alternative method shall not be implemented until all miners, who have been designated to examine the integrity of seals and verify the short-circuit settings and proper procedures for examining trailing cables for defects and damage, have received the elements of training specified in item (l).

(l) Within sixty (60) days after the PDO is granted by MSHA, the petitioner shall submit proposed revisions for its approved 30 CFR part 48 training plan to the Coal Mine Safety and Health District Manager for the area in which the mine is located. The training shall include the following elements:

(1) Training in mining methods and operating procedures that shall protect the trailing cables against damage.

(2) Training in the proper procedures for examining the trailing cables to ensure that the cables are in safe operating condition.

(3) Training in hazards of setting the instantaneous circuit breakers too high to adequately protect the trailing cables.

(4) Training in how to verify that circuit interrupting devices protecting the trailing cables are properly set and maintained.

(m) The procedures of 30 CFR 48.3 for approval of proposed revisions to already approved training plans shall apply.

(n) The miners at Harrison County Coal Resources, Inc., Harrison County Mine, are represented by a labor organization and a copy of this petition has been provided to the representative of the miners at the mine on October 30, 2024.

In support of the proposed alternative method, the petitioner submitted: schematic diagrams showing the lengths and locations of trailing cables; a fault analysis summary; a short-circuit analysis including specific cable information for all high voltage cables from the utility service drop to the section power center; and one-line diagrams.

The petitioner asserts that the alternate method proposed will at all times guarantee no less than the same measure of protection afforded the miners under the mandatory standard.

Song-ae Aromie Noe,
Director, Office of Standards, Regulations, and Variances.

[FR Doc. 2024-30945 Filed 12-27-24; 8:45 am]

BILLING CODE 4520-43-P